DEPARTMENT OF LABOR

Office of the Secretary

Submission for OMB Review; Comment Request

November 22, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or E-Mail King-Darrin@dol.gov.

Comments should be sent to Office of Information and Regulatory Affairs, Attn: OMB Desk Officer for MSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Mine Safety and Health Administration (MSHA).

Title: Noise Exposure Assessment; Audiometric Testing, Evaluation, and Records and Training in all Mines.

OMB Number: 1219-0120.

Affected Public: Business or other for-profit and State, Local, or Tribal Government.

Type of Response: Recordkeeping.

Frequency: On occasion.

Number of Respondents: 13,552.

Annual Responses: 821,843.

Total Annual Burden Hours: 101,852.

Average Response Time: Varies from 5 minutes to post notices to 5 hours to establish a system for monitoring noise exposure.

Total Annualized Capital/Startup Costs: $0.

Total Annual Costs (operating/maintaining systems or purchasing services): $4,151,448.

Description: 30 CFR Sections 62.110, 62.130, 62.170, 62.171, 62.172, 62.173, 62.174, 62.175, 62.180, and 62.190 establish uniform noise exposure recordkeeping requirements for the mining industry. Records of miner exposures are necessary so that mine operators and MSHA can evaluate the need for and effectiveness of engineering controls, administrative controls, and personal protective equipment to protect miners from harmful levels of noise exposure. Records of miner hearing examinations enable mine operators and MSHA to ensure that controls are effective in preventing noise-induced hearing loss for individual miners. Records of training are needed to confirm that miners receive the information they need to become active participants in hearing conservation efforts.

Ira L. Mills,
Departmental Clearance Officer.

[FR Doc. 02-30422 Filed 11-29-02; 8:45 am]

BILLING CODE 4510-43-M